DEPARTMENT OF ENERGY

Federal Energy Regulatory Commission

[Docket No. RP00-420-000]

Southern Natural Gas Company; Notice of Tariff Filing

August 3, 2000.

Take notice that on July 31, 2000, Southern Natural Gas Company (Southern) tendered for filing as part of its FERC Gas Tariff, Seventh Revised Volume No. 1, the following tariff sheets with the proposed effective date of September 1, 2000.

First Revised Sheet No. 159

First Revised Sheet No. 161

Fourth Revised Sheet No. 169

Fourth Revised Sheet No. 177

Third Revised Sheet No. 192

Second Revised Sheet No. 193

Second Revised Sheet No. 254

Second Revised Sheet No. 257

Third Revised Sheet No. 258

Third Revised Sheet No. 260

On February 9, 2000, the Commission issued its final rule regarding the regulation of short-term and long-term interstate natural gas transportation services in Docket Nos. RM98-10-000 and RM98-12-000 (Order No. 637). Southern is filing in the instant filing tariff provisions to implement the directives in Order No. 637 regarding the lifting of the rate ceiling for short-term capacity release transactions, the implementation of limitations on the prospective availability of the right of first refusal (ROFR) and the activation of an internet web site containing accessible electronic data as specified by the Gas Industry Standards Board (GISB).

Any person desiring to be heard or to protest said filing should file a motion to intervene or a protest with the Federal Energy Regulatory Commission, 888 First Street, NE., Wahsington, DC 20426, in accordance with sections 385.214 or 385.211 of the Commission's Rules and Regulations. All such motions or protests must be filed in accordance with section 154.210 of the Com­mission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20070 Filed 8-8-00; 8:45 am]

BILLING CODE 6717-01-M